DEPARTMENT OF HOMELAND SECURITY

Coast Guard

[USCG-2005-21833]

Mark 11 Static Barrier Running Gear Entanglement System; Draft Programmatic Environmental Assessment

AGENCY: Coast Guard, DHS.

ACTION: Notice of availability and request for comments.

SUMMARY: The Coast Guard announces the availability of the Draft Programmatic Environmental Assessment (PEA) and Draft Finding of No Significant Impact (FONSI) for the Mark 11 Static Barrier Running Gear Entanglement System (RGES). The Coast Guard is proposing to establish and operate a Mark (MK) 11 Static Barrier RGES at various and currently unknown U.S. ports throughout the U.S. Maritime Domain, when necessary. The purpose of Proposed Action is to improve the Coast Guard's capabilities to intercept and interdict small boats and watercraft. The MK11 Static Barrier RGES would deliver an entanglement device which would foul the propellers of unauthorized vessels attempting to approach restricted areas. The MK 11 Static Barrier RGES would not duplicate existing protective measures, but would provide complimentary, non-redundant capabilities that would be able to close significant readiness gaps in our nation's strategic ports.

DATES: You are invited to request a copy of the Draft PEA and Draft FONSI and/or submit comments by August 26, 2005.

ADDRESSES: A copy of the Draft Programmatic Environmental Assessment (PEA) and/or the Draft Finding of No Significant Impact (FONSI) will be available in the public docket for this notice, which is available on line at http://dms.dot.gov. You may also request a copy by one of the following means:

(1) Mail: Mr. Neal J. Armstrong, U.S. Coast Guard Headquarters (G-OCU-3), 2100 Second Street, SW., Washington, DC 20593.

(2) Fax: (202) 267-4415. Or,

(3) E-mail: narmstrong@comdt.uscg.mil.

In choosing from these means, please give due regard to the continuing difficulties and delays associated with delivery of mail through the U.S. Postal Service to federal facilities.

You may submit comments on the PEA and/or FONSI, identified by Coast Guard docket number USCG-2005-21833, by one of the following methods:

(1) Web Site: http://dms.dot.gov.

(2) Mail: Docket Management Facility, U.S. Department of Transportation, 400 Seventh Street, SW., Washington, DC 20590-0001.

(3) Fax: 202-493-2251. or,

(4) Delivery: Room PL-401 on the Plaza level of the Nassif Building, 400 Seventh Street, SW., Washington, DC, between 9 a.m. and 5 p.m., Monday through Friday, except Federal holidays. The telephone number for the Docket Management Facility is 202-366-9329.

FOR FURTHER INFORMATION CONTACT: If you have questions about the project, viewing or submitting material, or would like a copy of the Draft PEA or FONSI, you may contact Mr. Neal Armstrong at (202) 267-2572 or by e-mail at narmstrong@comdt.uscg.mil.

SUPPLEMENTARY INFORMATION:

Request for Comments

We encourage you to submit comments and related materials on the draft PEA and draft FONSI. Persons submitting comments should include their names and addresses, this notice reference number (USCG-2005-21833), and the reasons for each comment. You may submit your comments and materials by mail, hand delivery, fax, or electronic means using the information provided in the ADDRESSES section above. If you choose to submit them by mail, submit them in an unbound format, no larger than 8½ by 11 inches, and suitable for copying and electronic filing. If you submit them by mail and would like to know if they reached the Coast Guard, please enclose a stamped, self-addressed postcard or envelope. We will consider all comments and materials received during the comment period. For additional information about this notice or the Draft PEA, contact Ms. Kebby Kelley at (202) 267-6034 or Kkelley@comdt.uscg.mil.

Background Information

Domestic port safety and security has long been a core Coast Guard mission. However, in the wake of the terrorist attacks committed on September 11, 2001, emerging threats to the U.S. homeland have prompted an increased Coast Guard focus on protecting domestic ports and the U.S. Maritime Transportation System from terrorist threats.

As part of the U.S. response to these threats, the Coast Guard has undertaken a PEA for the decision to establish and operate the MK 11 Static Barrier RGES at various and currently unknown U.S. ports throughout the U.S. Maritime Domain, when necessary.

The MK 11 Static Barrier RGES would be used to provide a barrier around a high value asset or to establish a “line of demarcation” thereby outlining a security or safety zone and allow security forces sufficient time to react and counter a threat. The MK 11 Static Barrier RGES would have a line that floats on the surface of the water, with 40-inch long loops spaced every 8 inches. Inflatable 15-inch buoys would be placed every 100 feet. Lights would also be attached every 100 feet, midway between the floatation buoys. Anchoring systems would be required every 200 feet.

The RGES could operate in typical harbor, anchorage, and wharf environments including fresh, salt and brackish waters, in air and water temperatures and thermoclines, as would typically be expected in a port/harbor environment. U.S. Coast Guard personnel would provide a continuous watch over the deployed MK 11 Static Barrier RGES.

Public input is important to the preparation of the Final PEA. Your concerns and comments regarding the establishment and operation of MK 11 Static Barrier RGES and the possible environmental impacts are important to the Coast Guard.

Dated: July 8, 2005.
Richard Button,
CDR, U.S. Coast Guard, Chief, Office of Cutter Training.

[FR Doc. 05-13957 Filed 7-14-05; 8:45 am]

BILLING CODE 4910-15-P